DEPARTMENT OF ENERGY

Federal Energy Regulatory Commission

[Docket No. RP96-272-022]

Northern Natural Gas Company; Notice of Proposed Changes in FERC Gas Tariff

December 21, 2000.

Take notice that on December 18, 2000, Northern Natural Gas Company (Northern) tendered for filing to become part of Northern's FERC Gas Tariff, Fifth Revised Volume No. 1, the following tariff sheet, proposed to become effective on December 19, 2000.

Third Revised Sheet No. 66A

Northern states that the above sheet is being filed to amend the negotiated rate transaction with OGE Energy Resources, Inc. filed on December 12, 2000 in accordance with the Commission's Policy Statement on Alternatives to Traditional cost-of-Service Ratemaking for Natural Gas Pipelines. Specifically, the amendment sets forth the MDQ that the negotiated rate applies to through the end of December, 2000.

Northern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the commission in determining the appropriate action to be taken, but will not serve to make protestants parties to the proceedings. Copies of this filing are on file with the Commission and are available for public inspection in the Public Reference Room. This filing may be viewed on the web at http://www.ferc./fed./us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33097 Filed 12-27-00; 8:45 am]

BILLING CODE 6717-01-M